DEPARTMENT OF THE INTERIOR

Bureau of Reclamation

[DES 00-18]

Colusa Basin Drainage District's Integrated Resources Management Program for Flood Control in the Colusa Basin in Glenn, Colusa, and Yolo Counties, California

AGENCY: Bureau of Reclamation, Interior.

ACTION: Notice of availability of the draft programmatic environmental impact statement/draft programmatic environmental impact report (DEIS/DEIR), and notice of public hearing.

SUMMARY: Pursuant to the National Environmental Policy Act and the California Environmental Quality Act, the Bureau of Reclamation (Reclamation) and the Colusa Basin Drainage District (District) have prepared a joint DEIS/DEIR for the Integrated Resources Management Program for Flood Control in the Colusa Basin (Program). The Program encompasses an area of about 1,036,000 acres within the Basin, extending from Orland in the north to Knights Landing in the south, and includes lands in Glenn, Colusa, and Yolo Counties. The Sacramento River and Coastal Range foothills form its eastern and western boundaries, respectively. Within this area, the District encompasses about 650,000 acres. The Program is comprised of three elements: construction of a series of flood detention dams and basins on selected ephemeral streams that cause flooding in the Basin; implementation of several upland, riparian, and wetland environmental restoration measures that will help reduce soil erosion and sedimentation and restore degraded habitat; and development of a water supply that could be used for environmental purposes. The DEIS/DEIR describes and presents the potential environmental effects of the three Program elements. A public hearing has been scheduled to receive comments on the DEIS/DEIR. Three public workshops will be held before the public hearing to allow interested parties to learn more about the Program and its potential environmental consequences.

DATES: Please submit written comments on the DEIS/DEIR on or before August 25, 2000. Comments may be submitted to Reclamation or the District at the addresses provided below.

The public workshop dates are:

• June 29, 2000, 7:00 p.m., Arbuckle, CA

• July 13, 2000, 7:00 p.m., Colusa, CA

• July 20, 2000, 7:00 p.m., Willows, CA

The public hearing on the DEIS/DEIR will be held on August 9, 2000, at 7:00 p.m.

ADDRESSES: The public workshop locations are:

• Arbuckle: Pierce High School Library, 960 Wildwood Road

• Colusa: Colusa Industrial Properties, Agricultural Building Conference Room, 100 Sunrise Boulevard

• Willows: Willows City Hall, 201 North Lassen Street

The public hearing will be held at the Willows City Hall, located at 201 North Lassen Street, Willows, California 95988

Written comments on the DEIS/DEIR should be addressed to Ms. Gaye Lopez, Colusa Basin Drainage District, P.O. Box 312, Woodland, CA 95776.

Copies of the DEIS/DEIR may be requested from Ms. Susan Lamb or Ms. Diane Hopkins by calling (916) 852-1300.

See SUPPLEMENTARY INFORMATION section for locations where copies of the DEIS/DEIR are available for public inspection.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Ms. Gaye Lopez, Colusa Basin Drainage District, at (530) 795-3038 or Mr. Russ Smith, Reclamation, at (530) 275-1554.

SUPPLEMENTARY INFORMATION: The proposed action is to construct flood detention dams and basins on certain ephemeral streams in the foothills west of the Basin that cause the greatest flood damage. Reclamation and the District also propose to implement approximately 10,000 acres of environmental restoration measures to help restore degraded upland, riparian, and wetland habitats in the project area. In addition, the detention basins could provide a water supply that could be used for environmental purposes.

The goal of the Program is to substantially reduce flood damages and restore upland, riparian, and wetland habitats that have been historically degraded in the Colusa Basin. In addition to a No Program Alternative, which involves the continued use of the existing Colusa Basin Drain for drainage management and inadequate flood flow conveyance, six program alternatives are examined. Alternatives 1a, 2a, and 3a include the proposed construction of 14, 8, and 5 foothill flood detention dams and reservoirs, respectively, and about 10,000 acres of upland, riparian, and wetland restoration measures in the Colusa Basin. Alternatives 1b, 2b, and 3b include all the elements of Alternatives 1a, 2a, and 3a, respectively, and would also be operated to provide a water supply that could be used for environmental purposes, including the dedication of some reservoir space for water storage.

Copies of the DEIS/DEIR are available for public inspection at the following locations:

• Bureau of Reclamation, Denver Office Library, Building 67, Room 167, Denver Federal Center, 6th and Kipling, Denver CO 80225; telephone: (303) 445-2072

• Bureau of Reclamation, Office of Public Affairs, 2800 Cottage Way, Sacramento CA 95825-1898; telephone: (916) 978-5100

• Natural Resources Library, U.S. Department of the Interior, 1849 C Street NW, Main Interior Building, Washington DC 20240-0001

• Colusa County Library, 738 Market Street, Colusa CA 95932

• Sacramento State University Library, 6000 J Street, Sacramento CA 95521

• Princeton Public Library, P.O. Box 97, Princeton CA 95970-0097

• Elk Creek Library, Box 163, Elk Creek CA 95939-0163

• Bayliss Library, Rd 39 and West Bayliss, Bayless CA 95943

• Willows City Library, 201 N. Lassen Street, Willows CA 95988

• Woodland Public Library, 250 First Street, Woodland CA 95695

• Grimes Library, P.O. Box 275, Grimes CA 95950

• Orland City Library, 333 Mill Street, Orland CA 95963

• Shasta College Library, 1065 Old Oregon Trail, Redding, CA 96099

• Arbuckle Library, 7th & King, Arbuckle, CA 95912

• Butte Community College Library, 3536 Butte Campus Drive, Oroville, CA 95965

• Campus Library, Humboldt State University, Arcata, CA 95521

• Knights Landing Library, 42351 3rd Street, Knights Landing, CA 95645

• Willows Public Library, 201 North Lassen Street, Willows, CA 94988

• Shields Library, University of California-Davis, Davis, CA 95616

Hearing Process Information

Colusa Basin Drainage District staff will make a brief presentation to describe the proposed project, its purpose and need, and alternatives considered. The public may comment on environmental issues addressed in the DEIS/DEIR. If necessary due to large attendance, comments will be limited to 5 minutes per speaker. Written comments will also be accepted.

Dated: May 23, 2000.
Lester A. Snow,
Regional Director.

[FR Doc. 00-13854 Filed 6-1-00; 8:45 am]

BILLING CODE 4310-MN-P